DEPARTMENT OF THE INTERIOR

National Park Service

National Register of Historic Places; Weekly Listing of Historic Properties

Pursuant to (36 CFR 60.13(b,c)) and (36 CFR 63.5), this notice, through publication of the information included herein, is to apprise the public as well as governmental agencies, associations and all other organizations and individuals interested in historic preservation, of the properties added to, or determined eligible for listing in, the National Register of Historic Places from May 25 to May 29, 2009.

For further information, please contact Edson Beall via: United States Postal Service mail, at the National Register of Historic Places, 2280 National Park Service, 1849 C St. NW., Washington, DC 20240; in person (by appointment), 1201 Eye St., NW., 8th floor, Washington, DC 20005; by fax, 202-371-2229; by phone, 202-354-2255; or by e-mail, Edson_Beall@nps.gov.

Dated: July 21, 2009.
J. Paul Loether,
Chief, National Register of Historic Places/National Historic Landmarks Program.

KEY: State, County, Property Name, Address/Boundary, City, Vicinity, Reference Number, Action, Date, Multiple Name

ARKANSAS

Calhoun County

Hampton Cemetery, S. of the jct of US 278 W. and 1st St., Hampton, 09000340, LISTED, 5/27/09

ILLINOIS

Cook County

B.F. Goodrich Company Showroom, 1925 S. Michigan Ave., Chicago, 09000347, LISTED, 5/28/09 (Motor Row, Chicago, Illinois MPS)

INDIANA

Putnam County

Putnam County Bridge 137, Co. Rd. 100 over Big Walnut Creek, Greencastle, 65009969, *DETERMINED ELIGIBLE, 5/27/09

KANSAS

Sedgwick County

Old Mission Mausoleum, 3414 E. 21st St., Wichita, 09000352, LISTED, 5/28/09

MASSACHUSETTS

Plymouth County

WPA Field House and Pump Station, 7-19 Henry Turner Bailey Rd., Scituate, 09000355, LISTED, 5/29/09

MASSACHUSETTS

Worcester County

West Main Street Historic District (Boundary Increase III), Portions of E. Main St., High St., Lincoln St., Milk St., Prospect and Spring Sts., Westborough, 09000196, LISTED, 5/29/09

NEW YORK

Broome County

Rivercrest Historic District, 4601-4609 Vestal Rd. & 4613-4729 Vestal Pkwy. E., Vestal, 09000208, DETERMINED ELIGIBLE, 5/28/09

NEW YORK

Kings County

Beth El Jewish Center of Flatbush, 1981 Homecrest Ave., Brooklyn, 09000377, LISTED, 5/29/09

NEW YORK

Queens County

Fort Tilden Historic District, Gateway National Recreation Area, Gateway National Recreation Area, 65009972, *DETERMINED ELIGIBLE, 5/12/09

NEW YORK

Richmond County

Jacques Marchais Center of Tibetan Art, 338 Lighthouse Ave., Staten Island, 09000379, LISTED, 5/29/09

OKLAHOMA

Ottawa County

Miami Downtown Historic District, Roughly 100 block of N. Main, 000 block of S. Main, 000 blocks of Central Ave. and 000 block of SE. A St., Miami, 09000357, LISTED, 5/29/09

OREGON

Benton County

Willamette Community and Grange Hall, 27555 Greenberry Rd., Corvallis vicinity, 09000359, LISTED, 5/28/09

OREGON

Washington County

Painter's Woods Historic District, Centered on 15th Ave. and Birch Sts., including portions of 14th, 13th, 12th Aves., Cedar and Douglas Sts., Forest Grove, 09000360, LISTED, 5/28/09

PUERTO RICO

Caguas Municipality

Puente No. 6, SR 798, Km. 1.0, Rio Canas Ward, Caguas vicinity, 09000361, LISTED, 5/28/09 (Historic Bridges of Puerto Rico MPS)

SOUTH CAROLINA

Abbeville County

Lindsay Cemetery, Lindsay Cemetery Rd., Due West vicinity, 09000364, LISTED, 5/27/09

VIRGINIA

Loudoun County

Round Hill Historic District, Area within the Round Hill town limits that is bounded roughly by VA 7 to the S., Locust St. to the W., Bridge on E, Round Hill, 09000366, LISTED, 5/28/09

WASHINGTON

Kitsap County

Coder-Coleman House, 904 Highland Ave., Bremerton, 09000367, LISTED, 5/28/09

*Denotes FEDERAL DETERMINATION OF ELIGIBILITY

[FR Doc. E9-17822 Filed 7-24-09; 8:45 am]

BILLING CODE P